ENVIRONMENTAL PROTECTION AGENCY

[OPP-2002-0055; FRL-7187-7]

Organophosphate Pesticides; Disulfoton; Availability of Interim Risk Management Decision Document

AGENCY: Environmental Protection Agency (EPA).

ACTION: Notice.

SUMMARY: This notice (or “action”) announces the availability of the Interim Reregistration Eligibility Decision (IRED) document and technical support documents for the organophosphate (OP) pesticide, disulfoton. These documents have been developed using a public participation process designed by EPA and the U.S. Department of Agriculture (USDA) to involve the public in the reassessment of pesticide tolerances under the Food Quality Protection Act (FQPA) and the reregistration of individual OPs under the Federal Insecticide, Fungicide, and Rodenticide Act (FIFRA). This notice starts a 30-day public comment period for disulfoton, during which the public is invited to submit comments on the Agency's risk management decision. This comment period will allow growers and other stakeholders one final opportunity to submit new information on disulfoton alternatives and benefits for uses that are being phased out. Comments concerning the phase out must include specific information on current disulfoton use, timing of applications, target pests, available alternatives, and the cost and efficacy of alternatives, to be considered by the Agency.

DATES: Comments on the IRED for disulfoton must be identified by docket ID number OPP-2002-0055 and must be received by EPA on or before August 16, 2002 to be considered by the Agency.

ADDRESSES: You may submit comments by mail, electronically, or in person. Please follow the detailed instructions for each method as described under SUPPLEMENTARY INFORMATION. To ensure proper receipt by EPA, it is imperative that you identify docket ID number OPP-2002-0055 in the subject line on the first page of your response.

FOR FURTHER INFORMATION CONTACT: Christina Scheltema, Manager for disulfoton, Special Review and Reregistration Division (7508C), Office of Pesticide Programs, Environmental Protection Agency, 1200 Pennsylvania Ave., NW., Washington, DC 20460; telephone number: (703) 308-2201; e-mail address: scheltema.christina@epa.gov.

SUPPLEMENTARY INFORMATION:

I. General Information

A. Does this Action Apply to Me?

This action is directed to the public in general, but will interest a wide range of stakeholders, including environmental, human health, and agricultural advocates; the chemical industry; pesticide users; and members of the public interested in the use of pesticides on food. The Agency has not attempted to describe all the persons or entities who may be interested in or affected by this action. If you have questions in this regard, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environment Documents.” You can also go directly to the Federal Register listings at http://www.epa.gov/fedrgstr/.

You can obtain copies of the disulfoton documents at http://www.epa.gov/pesticides/op/status.htm. You can also access this site from EPA's Office of Pesticide Programs Home Page, http://www.epa.gov/pesticides/, using the following links: Reregistration and Special Review, Organophosphates, OP Schedule and Documents, and disulfoton. Available documents include the IRED, supporting technical documents, Federal Register notices, and EPA's response to public comments. General information on reregistration and tolerance reassessment, including IREDs, is available at http://www.epa.gov/pesticides/reregistration.

2. In person. The Agency has established an official record for the disulfoton IRED under docket ID number OPP-2002-0055. The official record consists of the documents specifically referenced in this action, and other information related to this action, including any information claimed as Confidential Business Information (CBI). This official record includes the documents that are physically located in the docket, as well as references within those documents. The public version of the official record does not include any information claimed as CBI. The public record, which includes printed, paper versions of any electronic comments submitted during an applicable comment period is available for inspection in the Public Information and Records Integrity Branch (PIRIB), Rm. 119, Crystal Mall #2, 1921 Jefferson Davis Highway, Arlington, VA, from 8:30 a.m. to 4 p.m., Monday through Friday, excluding Federal holidays. The PIRIB telephone number is (703) 305-5805. EPA documents relevant to the 6-phase public participation process for disulfoton are located under a different docket number, OPP 34165, which contains the Agency's preliminary and revised risk assessments for disulfoton, public comments, and the Agency's response to comments.

II. How Can I Respond to this Action?

A. How and to Whom do I Submit Comments?

You may submit comments through the mail, in person, or by e-mail. To ensure proper receipt by EPA, it is imperative that you include docket ID number OPP-2002-0055 in the subject line on the first page of your response.

1. By mail. Submit your comments to the following address: Public Information and Records Integrity Branch (PIRIB), Information Resources and Services Division (7502C), Office of Pesticide Programs, Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding Federal holidays. The PIRIB telephone number is: (703) 305-5805.

3. Electronically. You may submit your comments electronically by e-mail to: opp-docket@epa.gov, or you can submit a computer disk as described above. Do not submit any electronic information that you consider to be CBI. Avoid the use of special characters and any form of encryption. EPA will accept electronic submissions submitted in WordPerfect versions 6.1/8.0/9.0 or ASCII file format. Electronic comments may also be filed online at many Federal Depository Libraries.

B. How Should I Handle CBI that I Want to Submit to the Agency?

Do not submit any electronic information that you consider to be CBI. You may claim written information that you submit to EPA in response to this document as CBI by marking any part or all of that information as CBI. Information so marked will not be disclosed except in accordance with procedures set forth in 40 CFR part 2. You must submit one complete version of the comment that includes any information claimed as CBI, as well as a copy of the comment that does not contain the CBI information for inclusion in the public version of the official record. Information not marked confidential will be included in the public version of the offical record without prior notice. If you have any questions about CBI or the procedures for making CBI claims, please consult the person identified under FOR FURTHER INFORMATION CONTACT.

III. What Action is the Agency Taking?

A. General Information

For the OP pesticide disulfoton, the Agency is announcing the availability of the IRED document and supporting technical documents. EPA has assessed the risks associated with the use of disulfoton and reached an interim reregistration eligibility decision for disulfoton. The disulfoton IRED and supporting technical documents were developed using the OP public participation process, which was designed to increase transparency and maximize stakeholder involvement and to provide numerous opportunities for public comment. You can read more about the OP public participation process at http://www.epa.gov/pesticides/op/process.htm. Below is a brief summary of EPA's interim decision, which is fully described in disulfoton's IRED document.

B. Disulfoton Decision

EPA has determined that disulfoton is eligible for reregistration, pending a full reassessment of the cumulative risk from all OP pesticides, and provided that all the conditions identified in the IRED document are satisfied, including implementation of risk mitigation measures. Without implementation of the risk mitigation measures, the Agency has determined that disulfoton products may pose unreasonable adverse effects on human health and the environment. Therefore, EPA expects that registrant will implement the risk mitigation measures as soon as possible. The IRED document describes, in detail, what is necessary for implementing the risk mitigation measures, such as submission of label amendments for end-use products and submission of any required data. Mitigation measures for disulfoton include a phase out of disulfoton use on wheat, barley, potatoes, and commercially grown ornamentals by June 2005. Should a registrant fail to implement any of the risk mitigation identified in the IRED document, the Agency may take regulatory action to address risk concerns from the use of disulfoton.

EPA is taking comment on benefits associated with disulfoton use in response to grower concerns about the benefits assessment used to support the interim RED for disulfoton. There will be a 30-day public comment period to allow growers and other stakeholders an opportunity to submit any new use and usage information relevant to the risk management decision for disulfoton. Comments concerning uses being phased out must include specific information on current disulfoton use, timing of applications, target pests, available alternatives, and the cost and efficacy of alternatives, to be considered by the Agency.

C. Next Steps

EPA's next step under FQPA is to consider a cumulative risk assessment and risk management decision encompassing all the OP pesticides, which share a common mechanism of toxicity. Because the Agency has not yet finished its consideration of the cumulative risks for the OPs, the Agency's interim decisions do not fully satisfy the reassessment of the existing food residue tolerances as required by FQPA for disulfoton. When the Agency has considered the cumulative risks for the OPs, tolerances for disulfoton will be reassessed along with the other OP pesticides. At that time, the Agency will complete the FQPA requirements for the OPs and make a final reregistration eligibility decision, which may include further risk mitigation measures.

List of Subjects

Environmental protection, Chemicals, Pesticides and pests.

Dated: July 5, 2002.
Lois A. Rossi,
Director, Special Review and Reregistration Division, Office of Pesticide Programs.

[FR Doc. 02-17985 Filed 7-16-02; 8:45 am]

BILLING CODE 6560-50-S